DEPARTMENT OF THE INTERIOR

Bureau of Land Management

[NM220-1430 ES; NM-98042]

Recreation and Public Purposes (R&PP) Act Classification; New Mexico

AGENCY: Bureau of Land Management, Interior.

ACTION: Notice of realty action.

SUMMARY: The Bureau of Land Management (BLM) has determined land located in San Miguel County, New Mexico is suitable for classification for lease or conveyance to El Valle de Cristo Church, a non-profit organization, under authority of the Recreation and Public Purposes Act, as amended (43 U.S.C. 869 et seq.).

DATES: Interested parties may submit comments to the Taos Field Office Manager at the address below. Comments must be received by no later than April 3, 2006. Only written comments will be accepted.

ADDRESSES: Address all written comments concerning this Notice to Sam DesGeorges, Taos Field Office Manager, 226 Cruz Alta Road, Taos, New Mexico 87571.

FOR FURTHER INFORMATION CONTACT: Francina Martinez, Realty Specialist, at the above address or (505) 758-8851.

SUPPLEMENTARY INFORMATION: The land is located at:

New Mexico Principal Meridian

T. 13 N., R. 14 E.,

Sec. 10, lot 11.

Containing 8.34 acres, more or less.

El Valle de Cristo Church proposes to use the lands for a recreational facility for the purpose of meeting a community need for an organized recreational site. Conveying title to the affected public land is consistent with current BLM land use planning. The lease/conveyance, when issued, would be subject to the following terms, conditions and reservations:

1. Provisions of the Recreation and Public Purposes Act and to all applicable regulations of the Secretary of the Interior.

2. A right-of-way for ditches and canals constructed by the authority of the United States.

3. The United States will reserve all minerals together with the right to prospect for, mine, and remove the minerals.

4. Those rights for a utility and access road right-of-way granted to Ken, Marianne and Rheanna Hastey by permit No. NMNM 107503.

Additional detailed information concerning this Notice of Realty Action is available for review at the office of the Bureau of Land Management, Taos Resource Area, 226 Cruz Alta, Taos, NM 87571.

Upon publication of this notice in the Federal Register, the lands will be segregated from all other forms of appropriation under the public land laws, including the mining and mineral leasing laws, except for lease or conveyance under the Recreation and Public Purposes Act. Comments may be submitted regarding the proposed classification, leasing or conveyance of the land to the Field Office Manager, Taos Field Office, for a period of 45 days from the date of publication of this notice in the Federal Register. You may submit comments regarding the suitability of the lands for a recreation site. Comments on the classification are restricted to four subjects:

(1) Whether the land is physically suited for the proposal;

(2) Whether the use will maximize the future use or uses of the land;

(3) Whether the use is consistent with local planning and zoning; and

(4) If the use is consistent with State and Federal programs.

Comments may be submitted regarding the specific use proposed in the application and plan of development, and whether the BLM followed proper administrative procedures in reaching the decision.

The State Director will review any adverse comments. The classification will become effective 60 days from the date of publication of this notice in the Federal Register.

Dated: January 5, 2006.
Paul Williams,
Acting Field Office Manager.

[FR Doc. E6-2295 Filed 2-16-06; 8:45 am]

BILLING CODE 4310-FB-P